FEDERAL ELECTION COMMISSION

11 CFR Part 100

[Notice 2005-23]

Definition of Federal Election Activity

AGENCY: Federal Election Commission.

ACTION: Reopening of comment period.

SUMMARY: This notice reopens the comment period for a notice of proposed rulemaking to amend the definition of “Federal election activity.” The comment period will be open for thirty days. The NPRM includes proposals that would retain the existing definition of “voter registration activity” and modify the existing definitions of “get-out-the-vote activity” and “voter identification” to conform Commission rules to the ruling of the U.S. District Court for the District of Columbia in Shays v. Federal Election Commission.

DATES: Comments must be received on or before September 29, 2005.

ADDRESSES: All comments must be in writing, addressed to Ms. Mai T. Dinh, Assistant General Counsel, and submitted in either e-mail, facsimile or paper form. Commenters are strongly encouraged to submit comments by e-mail or facsimile to ensure timely receipt and consideration. E-mail comments must be sent to either FEAdef2@fec.gov or submitted through the Federal eRegulations Portal at www.regulations.gov. If the e-mail comments include an attachment, the attachment must be in Adobe Acrobat (.pdf) or Microsoft Word (.doc) format. Faxed comments should be sent to (202) 219-3923, with paper copy follow-up. Paper comments and paper copy follow-up of faxed comments should be sent to the Federal Election Commission, 999 E Street, NW., Washington, DC 20463. All comments must include the full name and postal service address of the commenter or they will not be considered. The Commission will post comments on its Web site after the comment period ends.

FOR FURTHER INFORMATION CONTACT: Ms. Mai T. Dinh, Assistant General Counsel, Mr. J. Duane Pugh Jr., Senior Attorney, or Ms. Margaret G. Perl, Attorney, 999 E Street, NW., Washington, DC 20463, (202) 694-1650 or (800) 424-9530.

SUPPLEMENTARY INFORMATION: The Bipartisan Campaign Reform Act of 2002 (“BCRA”), Public Law No. 107-155, 116 Stat. 81 (2002), amended FECA by adding a new term, “Federal election activity” (“FEA”). The Commission defined FEA in 11 CFR 100.24. In Shays v. FEC, 337 F. Supp. 2d 28 (D.D.C. 2004), aff'd, No. 04-5352, 2005 WL 1653053 (D.C. Cir. July 15, 2005) (“Shays”), the District Court held that certain parts of certain regulations had not been promulgated with adequate notice and opportunity for comment and that other aspects of the regulations were inconsistent with Congressional intent. Shays at 104, 107 n.83, and 108. The District Court remanded the case for further action consistent with the court's decision.

To address the District Court decision, the Commission published a Notice of Proposed Rulemaking amending the definition of “Federal election activity.” Notice of Proposed Rulemaking for the Definition of Federal Election Activity, 70 FR 23068 (May 4, 2005). The NPRM explored possible modifications to the definitions of “voter registration activity,” “get-out-the-vote activity,” and “voter identification.” The comment period for the NPRM ended on June 3, 2005, and a hearing was held on August 4, 2005. Written comments and a transcript of the hearing can be found at: http://www.fec.gov/law/law_rulemakings.shtml#definition_fea.

Witnesses at the hearing suggested that the Commission seek additional information that may assist the Commission in its decisionmaking. The Commission is reopening the comment period to allow interested parties to submit information or comments that may be useful in this rulemaking.

Dated: August 24, 2005.
Michael E. Toner,
Vice Chairman, Federal Election Commission.

[FR Doc. 05-17155 Filed 8-29-05; 8:45 am]

BILLING CODE 6715-01-P